DEPARTMENT OF THE INTERIOR

Fish and Wildlife Service

U.S. Fish and Wildlife Service and Confederated Salish and Kootenai Tribes; Draft Annual Funding Agreement

AGENCY: Fish and Wildlife Service, Interior.

ACTION: Notice; reopening of public comment period.

SUMMARY: The U.S. Fish and Wildlife Service (FWS) published in the Federal Register on July 14, 2004, a notice concerning requests for comments on a Draft Annual Funding Agreement (AFA) between the FWS and the Confederated Salish and Kootenai Tribes. The AFA covers activities at the National Bison Range Complex in Montana.

DATES: As announced on July 14, 2004, the public comment period for the Draft AFA ended on October 12, 2004. The FWS is reopening the public comment period for the Draft AFA until November 4, 2004. To be considered, your comments must be received by that date.

ADDRESSES: You may submit written comments to the U.S. Fish and Wildlife Service, National Bison Range, 132 Bison Range Road, Moiese, Montana 59824, or by facsimile to (406) 644-2661. You also may hand-deliver written comments to the National Bison Range at the address given above, or e-mail comments to draftafapubliccomments@fws.gov.

FOR FURTHER INFORMATION CONTACT: Steve Kallin, Refuge Manager, National Bison Range, U.S. Fish and Wildlife Service, (406) 644-2211, extension 204.

SUPPLEMENTARY INFORMATION: The original notice published in the Federal Register on July 14, 2004, at 69 FR 42199.

Dated: October 13, 2004.
Matt Hogan,
Director, U.S. Fish and Wildlife Service.

[FR Doc. 04-23419 Filed 10-19-04; 8:45 am]

BILLING CODE 4310-55-P